DEPARTMENT OF COMMERCE

International Trade Administration

Environmental Technologies Trade Advisory Committee (ETTAC)

AGENCY: International Trade Administration, U.S. Department of Commerce.

ACTION: Notice of Open Meeting.

DATE: November 15, 2001.

TIME: 9 a.m. to 12 p.m.

PLACE: U.S. Department of Commerce, 14th Street and Constitution Avenue, NW., Washington, DC 20230.

SUMMARY: The Environmental Technologies Trade Advisory Committee will hold a plenary meeting on November 15, 2001, at the U.S. Department of Commerce.

ETTAC will hear reports on programs in the International Trade Administration, and on the status of U.S. Commercial Service support for the U.S.-Asia Pacific Environmental Partnership. ETTAC will also hold a roundtable on the effects of the September 11 terrorism attacks on the environmental industry and the industry's response. The meeting is open to the public.

ETTAC is mandated by Public Law 103-392. It was created to advise the U.S. government on environmental trade policies and programs, and to help it to focus its resources on increasing the exports of the U.S. environmental industry. The ETTAC operates as an advisory committee to the Secretary of Commerce and the interagency Environmental Trade Working Group (ETWG) of the Trade Promotion Coordinating Committee (TPCC). The ETTAC was originally chartered in May of 1994. It was most recently rechartered until May 30, 2002.

For further information phone Jane Siegel, Office of Technologies Industries, (ETI), U.S. Department of Commerce at (202) 482-5225. This meeting is physically accessible to people with disabilities. Requests for sign language interpretation or other auxiliary aids should be directed to ETI.

Dated: October 22, 2001.
Carlos F. Montoulieu,
Acting Deputy Assistant Secretary.

[FR Doc. 01-27055 Filed 10-25-01; 8:45 am]

BILLING CODE 3510-DR-P